DEPARTMENT OF ENERGY

[Docket No. EA-309]

Amended Application To Export Electric Energy; Evergreen Wind Power, LLC

AGENCY: Office of Electricity Delivery and Energy Reliability, DOE.

ACTION: Notice of Amended Application.

SUMMARY: Evergreen Wind Power, LLC (Evergreen) has submitted supplementary information and a clarification to its application filed with the Department of Energy (DOE) for authorization to transmit electric energy from the United States to Canada pursuant to section 202(e) of the Federal Power Act. Evergreen has clarified its application to request that DOE grant its export authorization without the annual energy limit presently associated with the international transmission lines owned by Maine Public Service Company (MPS) that Evergreen proposes to use for the export. Evergreen also has submitted technical information demonstrating that the power transfer limit associated with these transmission lines is actually higher than that previously authorized by DOE and requests its authorization be granted at the higher limit. DOE hereby gives notice that, based on the submitted information, it plans to remove the annual energy limit on the MPS lines and allow the higher transfer rates for all exports over those lines.

DATES: Comments, protests, or requests to intervene must be submitted on or before September 22, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Ellen Russell (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On March 20, 2006, the Office of Electricity Delivery and Energy Reliability (OE) of DOE received an application from Evergreen to transmit electric energy from the U.S. to Canada. Notice of the application appeared in the Federal Register on April 18, 2006 (71 FR 19880) requesting any comments, protests, or petitions to intervene. None were received. Evergreen supplemented its application in filings received by DOE on July 31, 2006, regarding the higher power transfer limit, and on August 21, 2006, regarding the removal of the annual energy limit.

Evergreen is proposing to construct a 49.5-megawatt (MW) wind generation facility, the Mars Hill Project, in Aroostook, Maine, and will sell the electrical output of the facility within the U.S. and/or to customers in Canada. The electric energy to be exported to Canada would be transmitted over the international transmission facilities owned by MPS and authorized by Presidential Permits PP-12 and PP-29.

Exports over the PP-12 and PP-29 facilities are presently limited to a total of 40,000 MWh per year with a power transfer limit of 40.8 MW. Evergreen has submitted technical information which demonstrates that the power transfer limit for the combination of the PP-12 and PP-29 facilities is now 97.8 MW, not the 40.8 MW previously authorized. Evergreen also asserts that if it were subject to the existing 40,000-MWh annual energy limit it would severely hinder its ability to maximize the output of the Mars Hill Project.

DOE proposes to issue an export authorization to Evergreen at the 98.7-MW power transfer limit and without the annual energy limits. DOE notes that it has previously authorized numerous entities to export over the PP-12 and PP-29 facilities and that each of those authorizations contained the 40,000-MWh energy limit and the 40.8-MW power transfer limit. DOE further proposes that all entities previously authorized by DOE to export over the PP-12 and PP-29 facilities would be permitted to export at the higher power transfer limit with no annual energy limit.

Evergreen has also requested DOE expedite the processing of its application in order that Evergreen may complete certain scheduled financing transactions. Accordingly, DOE has shortened the public comment period to 15 days.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with DOE on or before the date listed above.

Comments on the Evergreen application to export electric energy to Canada should be clearly marked with Docket EA-309. Additional copies are to be filed directly with Peter Gish, General Counsel, Evergreen Wind Power, LLC, 100 Wells Avenue, Suite 201, Newton, MA 02459, and David L. Schwartz, Natasha Gianvecchio, Sue Wang, Latham & Watkins LLP, 555 Eleventh Street, NW., Suite 1000, Washington, DC 20004.

A final decision will be made on this application after the environmental impacts have been evaluated pursuant to the National Environmental Policy Act of 1969, and a determination is made by DOE that the proposed action will not adversely impact on the reliability of the U.S. electric power supply system.

Copies of this application will be made available, upon request, for public inspection and copying at the address provided above or by emailing Odessa Hopkins at Odessa.hopkins@hq.doe.gov.

Issued in Washington, DC, on August 31, 2006.
Anthony J. Como,
Director, Permitting and Siting, Office of Electricity Delivery and Energy Reliability.

[FR Doc. E6-14803 Filed 9-6-06; 8:45 am]

BILLING CODE 6450-01-P